OFFICE OF PERSONNEL MANAGEMENT

[OMB Control No. 3206-0034; RI 30-2]

Submission for OMB Review; Request for Review of a Revised Information Collection:

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. This information collection, “Annuitant's Report of Earned Income” (OMB Control No. 3206-0034; Form RI 30-2), is used annually to determine if disability retirees under age 60 have earned income which will result in the termination of their annuity benefits.

We estimate 21,000 RI 30-2 forms are completed annually. The RI 30-2 takes approximately 35 minutes to complete for an annual burden of 12,250 hours.

For copies of this proposal, contact Cyrus S. Benson by telephone (202) 606-4808, FAX (202) 606-0623 or by E-mail to Cyrus.Benson@opm.gov. Please include a mailing address with your request.

DATES: Comments on this proposal should be received within 30 calendar days from the date of this publication.

ADDRESSES: Send or deliver comments to—

James K. Freiert, Deputy Assistant Director, Retirement Services Program, Center for Retirement and Insurance Services, U.S. Office of Personnel Management, 1900 E Street, NW., Room 3305, Washington, DC 20415-3500, and

OPM Desk Officer, Office of Information & Regulatory Affairs, Office of Management and Budget, New Executive Office Building, 725 17th Street, NW., Room 10235, Washington, DC 20503.

For information regarding administrative coordination contact: Cyrus S. Benson, Team Leader, Publications Team, RIS Support Services/Support Group, U.S. Office of Personnel Management, 1900 E Street, NW., Room 4H28, Washington, DC 20415, (202) 606-0623.

U.S. Office of Personnel Management.
John Berry,
Director.

[FR Doc. E9-24847 Filed 10-15-09; 8:45 am]

BILLING CODE 6325-38-P